NUCLEAR REGULATORY COMMISSION

[Docket No. 50-293; NRC-2014-0202]

Entergy Nuclear Operations, Inc.; Pilgrim Nuclear Power Station; Extension of Public Comment Period

AGENCY: Nuclear Regulatory Commission.

ACTION: License amendment application; opportunity to comment, request a hearing, and petition for leave to intervene; extension of public comment period.

SUMMARY: This document modifies a notice appearing in the Federal Register on September 22, 2014 (79 FR 56608), by extending the original public comment period from October 22, 2014, to October 26, 2014. This action was requested by concerned stakeholders who sought additional time to provide comments.

FOR FURTHER INFORMATION CONTACT: Nadiyah S. Morgan, Project Manager, Office of Nuclear Reactor Regulation, U.S. Nuclear Regulatory Commission, Washington, DC 20555-0001; telephone (301) 415-1016, email: Nadiyah.Morgan@nrc.gov.

SUPPLEMENTARY INFORMATION: On page 56608, in the third column, in the paragraph entitled, DATES, the closing of the public comment period was October 22, 2014. This date has been extended to October 26, 2014.

Dated in Rockville, Maryland, this 30th day of September 2014.
For the Nuclear Regulatory Commission.
Benjamin G. Beasley,
Chief, Plant Licensing Branch I-1, Division of Operating Reactor Licensing, Office of Nuclear Reactor Regulation.

[FR Doc. 2014-23934 Filed 10-6-14; 8:45 am]

BILLING CODE 7590-01-P